SECURITIES AND EXCHANGE COMMISSION

Sunshine Act Meeting

FEDERAL REGISTER CITATION OF PREVIOUS ANNOUNCEMENT: [To be announced].

STATUS: Closed meeting.

PLACE: 100 F Street, NE., Washington, DC.

DATE AND TIME OF PREVIOUSLY ANNOUNCED MEETING: March 17, 2011 at 10 a.m.

CHANGE IN THE MEETING: Additional item.

The following matter will also be considered during the 10 a.m. closed meeting scheduled for Thursday, March 17, 2011: A litigation matter.

Commissioner Casey, as duty officer, voted to consider the item listed for the closed meeting in closed session, and determined that no earlier notice thereof was possible.

At times, changes in Commission priorities require alterations in the scheduling of meeting items. For further information and to ascertain what, if any, matters have been added, deleted or postponed, please contact the Office of the Secretary at (202) 551-5400.

Dated: March 11, 2011.
Elizabeth M. Murphy,
Secretary.

[FR Doc. 2011-6132 Filed 3-11-11; 4:15 pm]

BILLING CODE 8011-01-P